GENERAL SERVICES ADMINISTRATION

[Notice-CX-2014-01; Docket No. 2014-0002; Sequence 32]

SES Performance Review Board

AGENCY: General Services Administration.

ACTION: Notice.

SUMMARY: Notice is hereby given of the appointment of new members to the General Services Administration Senior Executive Service Performance Review Board. The Performance Review Board assures consistency, stability, and objectivity in the performance appraisal process.

DATES: Effective: November 10, 2014.

FOR FURTHER INFORMATION CONTACT: Ms. Antonia T. Harris, Chief Human Capital Officer, Office of Human Resources Management, General Services Administration, 1800 F Street NW., Washington, DC 20405, 202-501-0398.

SUPPLEMENTARY INFORMATION: Section 4314(c)(1) through (5) of title 5 U.S.C. requires each agency to establish, in accordance with regulations prescribed by the Office of Personnel Management, one or more SES performance review board(s). The board is responsible for making recommendations to the appointing and awarding authority on the performance appraisal ratings and performance awards for the Senior Executive Service employees.

The following have been designated as members of the Performance Review Board of the General Services Administration:

Denise Roth, Deputy Administrator—Chair.

Antonia T. Harris, Chief Human Capital Officer.

Christine J. Harada, Associate Administrator for Governmentwide Policy.

Giancarlo Brizzi, Principal Deputy Associate Administrator for Governmentwide Policy.

Thomas A. Sharpe, Jr., Commissioner, Federal Acquisition Service.

Kevin Youel Page, Deputy Commissioner, Federal Acquisition Service.

Linda C. Chero, Regional Commissioner, Federal Acquisition Service, Mid-Atlantic Region.

Norman S. Dong, Commissioner, Public Buildings Service.

Michael S. Gelber, Deputy Commissioner, Public Buildings Service.

George E. Northcroft, Regional Administrator, Northwest Arctic Region.

Dated: November 3, 2014.
Dan Tangherlini,
Administrator.

[FR Doc. 2014-26624 Filed 11-7-14; 8:45 am]

BILLING CODE 6820-34-P